ENVIRONMENTAL PROTECTION AGENCY

[FRL-9448-2]

Science Advisory Board Staff Office; Notification of a Public Teleconference of the Chartered Clean Air Scientific Advisory Committee

AGENCY: Environmental Protection Agency (EPA).

ACTION: Notice.

SUMMARY: The EPA Science Advisory Board (SAB) Staff Office announces a public teleconference of the Chartered Clean Air Scientific Advisory Committee (CASAC) on August 29, 2011 to conduct a quality review of a draft CASAC report, Review of EPA's Photochemical Assessment Monitoring Stations (PAMS) Network Re-engineering project.

DATES: The public teleconference will be held on August 29, 2011 from 9 a.m. to 11 a.m. (Eastern Daylight Time).

ADDRESSES: The public teleconference will be conducted by telephone only.

FOR FURTHER INFORMATION CONTACT: Any member of the public wishing to obtain general information concerning the public teleconference may contact Dr. Holly Stallworth, Designated Federal Officer (DFO). Dr. Stallworth may be contacted at the EPA Science Advisory Board (1400R), U.S. Environmental Protection Agency, 1200 Pennsylvania Avenue, NW., Washington, DC 20460; or by telephone/voice mail at (202) 564-2073; fax at (202) 565-2098; or e-mail at stallworth.holly@epa.gov. General information concerning the EPA CASAC can be found on the EPA Web site at http://www.epa.gov/casac.

SUPPLEMENTARY INFORMATION: Background: The CASAC was established pursuant to the Clean Air Act (CAA) Amendments of 1977, codified at 42 U.S.C. 7409D(d)(2), to provide advice, information, and recommendations to the Administrator on the scientific and technical aspects of issues related to the criteria for air quality standards, research related to air quality, sources of air pollution, and the strategies to attain and maintain air quality standards and to prevent significant deterioration of air quality. The CASAC is a Federal Advisory Committee chartered under the Federal Advisory Committee Act (FACA), 5 U.S.C., App. 2. Pursuant to FACA and EPA policy, notice is hereby given that the CASAC will hold a public teleconference to conduct a quality review of a CASAC draft report entitled Review of EPA's Photochemical Assessment Monitoring Stations (PAMS) Network Re-engineering project. The CASAC will comply with the provisions of FACA and all appropriate SAB Staff Office procedural policies.

EPA's Office of Air and Radiation (OAR) designed the PAMS network in the 1990's to provide comprehensive monitoring data in areas not in attainment for ozone. The PAMS Network monitors for ozone and its precursors, such as oxides of nitrogen and volatile organic compounds and tracks progress for ozone control strategies. Since the promulgation of the PAMS network, there have been changes to the ozone National Ambient Air Quality Standards (NAAQS). OAR requested CASAC advice on options and ideas being considered to potentially revise and improve the scientific and technical aspects of EPA's PAMS program in the context of the most recently revised ozone NAAQS. The CASAC Air Monitoring and Methods Subcommittee (AMMS) has considered OAR's request and prepared an advisory report that will undergo quality review by the chartered CASAC.

The AMMS held three public teleconference calls on May 16, May 17, and July 18, 2011 to review EPA's draft plans for PAMS Network Re-engineering and discuss its draft peer review report. [Federal Register Notices dated April 15, 2011 (76 FR 21345-21346) and July 5, 2011 (76 FR 39103-39104)]. Materials from these teleconference calls are posted on the CASAC Web site at http://yosemite.epa.gov/sab/sabproduct.nsf/bf498bd32a1c7fdf85257242006dd6cb/6a62b0219d19df358525785c0064e71b!OpenDocument&Date=2011-05-16, http://yosemite.epa.gov/sab/sabproduct.nsf/bf498bd32a1c7fdf85257242006dd6cb/6abbc18d956a2b768525785c00663487!OpenDocument&Date=2011-05-17, and http://yosemite.epa.gov/sab/sabproduct.nsf/bf498bd32a1c7fdf85257242006dd6cb/001ebec35a29e6d5852578be005fc20f!OpenDocument&Date=2011-07-18. Background information about the CASAC advisory activity can be found on the CASAC Web site at http://yosemite.epa.gov/sab/sabproduct.nsf/fedrgstr_activites/PAMS%20Re-engineering?OpenDocument.

Availability of Meeting Materials: The agenda and other materials in support of the teleconference will be placed on the CASAC Web site at http://www.epa.gov/casac in advance of the teleconference.

Procedures for Providing Public Input: Public comment for consideration by EPA's Federal advisory committees and panels has a different purpose from public comment provided to EPA program offices. Therefore, the process for submitting comments to a Federal advisory committee is different from the process used to submit comments to an EPA program office.

Federal advisory committees and panels, including scientific advisory committees, provide independent advice to EPA. Members of the public can submit comments for a Federal advisory committee to consider as it develops advice for EPA. Input from the public to the CASAC will have the most impact if it provides specific scientific or technical information or analysis for CASAC panels to consider or if it relates to the clarity or accuracy of the technical information. Members of the public wishing to provide comment should contact the Designated Federal Officer directly.

Oral Statements: In general, individuals or groups requesting an oral presentation at a teleconference will be limited to three minutes. Those interested in being placed on the public speakers list for the August 29, 2011 teleconference should contact Dr. Stallworth at the contact information provided above no later than August 22, 2011.

Written Statements: Written statements should be supplied to the DFO via e-mail at the contact information noted above by August 22, 2011 for the teleconference so that the information may be made available to the CASAC members for their consideration. Written statements should be supplied in one of the following electronic formats: Adobe Acrobat PDF, MS Word, MS PowerPoint, or Rich Text files in IBM-PC/Windows 98/2000/XP format. It is the SAB Staff Office general policy to post public comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Stallworth at (202) 564-2073 or stallworth.holly@epa.gov. To request accommodation of a disability, please contact Dr. Stallworth preferably at least ten days prior to the teleconference to give EPA as much time as possible to process your request.

Dated: July 28, 2011.
Vanessa T. Vu,
Director, EPA Science Advisory Board Staff Office.

[FR Doc. 2011-19805 Filed 8-3-11; 8:45 am]

BILLING CODE 6560-50-P